DEPARTMENT OF LABOR

Employment and Training Administration

[TA-W-59,329]

Optical Electro Forming a Division of Oracle Lens Manufacturing, Sola International and Carl Zeiss Vision Clearwater, FL; Amended Certification Regarding Eligibility to Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on June 1, 2006, applicable to workers of Optical Electro Forming, a division of Oracle Lenses, Clearwater, Florida. The notice was published in the Federal Register on June 22, 2006 (71 FR 35949).

At the request of the State agency, the Department reviewed the certification for workers of the subject firm. The workers were engaged in the production of optical molds and inserts.

New information shows that Optical Electro Forming is a division of Oracle Lens Manufacturing, a division of SOLA International, in turn a division of Carl Zeiss Vision. Workers separated from employment at the subject firm had their wages reported under four separate unemployment insurance (UI) tax accounts: Optical Electro Forming, Oracle Lens Manufacturing, SOLA International, and Carl Zeiss Vision.

Accordingly, the Department is amending the certification to properly reflect this matter.

The intent of the Department's certification is to include all workers of Optical Electro Forming and its parent companies, Clearwater, Florida, who were adversely affected by a shift in production to Mexico.

The amended notice applicable to TA-W-59,329 is hereby issued as follows:

”All workers of Optical Electro Forming, a division of Oracle Lens Manufacturing, SOLA International and Carl Zeiss Vision, Clearwater, Florida, who became totally or partially separated from employment on or after May 2, 2005, through June 1, 2008, are eligible to apply for adjustment assistance under Section 223 of the Trade Act of 1974, and are also eligible to apply for alternative trade adjustment assistance under Section 246 of the Trade Act of 1974.”

Signed at Washington, DC this 19th day of December 2006.
Richard Church,
Certifying Officer, Division of Trade Adjustment Assistance.

[FR Doc. E6-22129 Filed 12-26-06; 8:45 am]

BILLING CODE 4510-30-P